NATIONAL ARCHIVES AND RECORDS ADMINISTRATION

[NARA-2021-029]

Advisory Committee on the Records of Congress; Meeting

AGENCY: National Archives and Records Administration (NARA).

ACTION: Notice of Federal Advisory Committee meeting.

SUMMARY: We are announcing an upcoming meeting of the Advisory Committee on the Records of Congress in accordance with the Federal Advisory Committee Act. The committee advises NARA on the full range of programs, policies, and plans for the Center for Legislative Archives in the Office of Legislative Archives, Presidential Libraries, and Museum Services (LPM).

DATES: The meeting will be on June 7, 2021, from 11:00 a.m. to 12:30 p.m. EDT.

ADDRESSES: This meeting will be a virtual meeting. You must register in advance through the Webex link at https://tinyurl.com/6f77y6nh if you wish to attend.

FOR FURTHER INFORMATION CONTACT: U.S. House of Representatives, Office of Art and Archives, by email at archives@mail.house.gov or by telephone at 202.226.1300.

SUPPLEMENTARY INFORMATION: This virtual meeting is open to the public in accordance with the Federal Advisory Committee Act (5 U.S.C. app 2) and implementing regulations.

Agenda

(1) Chair's Opening Remarks—Clerk of the U.S. House of Representatives

(2) Recognition of Co-chair—Secretary of the U.S. Senate

(3) Recognition of the Archivist of the United States

(4) Approval of the minutes of the last meeting

(5) Senate Archivist's report

(6) House Archivist's report

(7) Center for Legislative Archives update

(8) Other current issues and new business

Tasha Ford,
Committee Management Officer.

[FR Doc. 2021-10188 Filed 5-13-21; 8:45 am]

BILLING CODE 7515-01-P